OFFICE OF PERSONNEL MANAGEMENT

Excepted Service

AGENCY: Office of Personnel Management.

ACTION: Notice.

SUMMARY: This gives notice of OPM decisions, granting authority to make appointments under Schedules A, B, and C in the excepted service as required by 5 CFR 6.6 and 213.103.

FOR FURTHER INFORMATION CONTACT: Deborah Grade, Acting Director, Washington Services Branch, Center for Talent Services, Division for Human Resources Products and Services, (202) 606-5027.

SUPPLEMENTARY INFORMATION: Appearing in the listing below are the individual authorities established under Schedules A, B, and C between April 1, 2003 and April 30, 2003. Future notices will be published on the fourth Tuesday of each month, or as soon as possible thereafter. A consolidated listing of all authorities as of June 30 is published each year.

Schedule A. No Schedule A appointments for April 2003.

Schedule B. No Schedule B appointments for April 2003.

Schedule C. The following Schedule C appointments were approved for April 2003:

Council on Environmental Quality

Associate Director for Global Environmental Affairs to the Chair, Council on Environmental Quality. Effective April 18, 2003.

Department of Agriculture

Special Assistant to the Administrator for Risk Management. Effective April 2, 2003.

Confidential Assistant to the Assistant Secretary for Congressional Relations. Effective April 4, 2003.

Confidential Assistant to the Assistant Secretary for Congressional Relations. Effective April 4, 2003.

Special Assistant to the Chief for Natural Research Conservation Service. Effective April 11, 2003.

Special Assistant to the Administrator for the Farm Service Agency. Effective April 25, 2003.

White House Liaison to the Secretary of Agriculture. Effective April 25, 2003.

Department of the Army (Department of Defense)

Personal and Confidential Assistant to the Assistant Secretary of the Army. Effective April 7, 2003.

Department of Commerce

Confidential Assistant to the Deputy Assistant Secretary for Export Promotion Service. Effective April 1, 2003.

Policy Advisor to the Director for Legislative Affairs. Effective April 9, 2003.

Deputy Director to the Director for Executive Secretariat. Effective April 24, 2003.

Senior Advisor to the Assistant Secretary and Director General of the U.S. and Foreign Commercial Service, International Trade Administration. Effective April 25, 2003.

Deputy Director to the Director for White House Liaison. Effective April 28, 2003.

Department of Defense

Staff Assistant to the Deputy Under Secretary of Defense (Special Plans and Near East/South Asia). Effective April 7, 2003.

Staff Specialist to the Deputy Under Secretary of Defense for Logistics and Materials. Effective April 11, 2003.

Special Assistant to the Principal Deputy Under Secretary of Defense (Policy). Effective April 17, 2003.

Defense Fellow to the Special Assistant to the Secretary of Defense for White House Liaison. Effective April 22, 2003.

Department of Education

Confidential Assistant to the Assistant Secretary for Postsecondary Education. Effective April 4, 2003.

Deputy Secretary's Regional Representative to the Deputy Assistant Secretary for Regional Services. Effective April 8, 2003.

Deputy Assistant Secretary for Intergovernmental, Constituent Relations and Corporate Liaison to the Assistant Secretary for Intergovernmental and Interagency Affairs. Effective April 8, 2003.

Confidential Assistant to the Assistant Secretary for Management/Chief Information. Effective April 9, 2003.

Confidential Assistant to the Chief of Staff. Effective April 10, 2003.

Deputy Director of Communications to the Director for Public Affairs (Communications Director). Effective April 10, 2003.

Deputy Secretary's Regional Representative-Region VII to the Deputy Assistant Secretary for Regional Services. Effective April 11, 2003.

Special Assistant to the Assistant Secretary for Management/Chief Information Officer. Effective April 18, 2003.

Department of Energy

Advisor for Legislative Affairs to the Assistant Secretary for Conservation and Renewable Energy. Effective April 2, 2003.

Senior Policy Advisor to the Secretary for the Department of Energy. Effective April 4, 2003.

Senior Advisor to the Assistant Secretary for Conservation and Renewable Energy. Effective April 4, 2003.

Special Assistant for Intergovernmental Affairs to the Assistant Secretary for Energy (Environmental Management). Effective April 11, 2003.

Chief of Staff/Senior Policy Advisor for North American Affairs to the Assistant Secretary for International Affairs. Effective April 17, 2003.

Special Assistant to the Director for Scheduling and Advance. Effective April 24, 2003.

Department of Health and Human Services

Senior Advisor to the Assistant Secretary for Legislation. Effective April 17, 2003.

Department of Homeland Security

Executive Assistant to the Director for National Capital Region Coordination. Effective April 2, 2003.

Director for Local Affairs to the Director for State and Local Affairs. Effective April 7, 2003.

Director for State Affairs to the Director for State and Local Affairs. Effective April 10, 2003.

Special Assistant to the Director for Citizenship and Immigration Services. Effective April 9, 2003.

Press Assistant to the Assistant Secretary for Public Affairs. Effective April 11, 2003.

Business Liaison to the Special Assistant to the Secretary, Private Sector. Effective April 14, 2003.

Director of Speechwriting to the Assistant Secretary for Public Affairs. Effective April 15, 2003.

Business Analyst to the Special Assistant to the Secretary, Private Sector. Effective April 17, 2003.

Policy Analyst to the Deputy Chief of Staff (Policy). Effective April 18, 2003.

Press Secretary for Science and Technology to the Assistant Secretary for Public Affairs. Effective April 23, 2003.

Executive Assistant to the Assistant Secretary for Plans, Programs and Budgets. Effective April 24, 2003.

Associate Executive Secretary (Internal Coordination) to the Executive Secretary. Effective April 24, 2003.

Staff Assistant to the Deputy Secretary for the Department of Homeland Security. Effective April 24, 2003.

Special Assistant to the Under Secretary for Management. Effective April 24, 2003.

Scheduler to the Under Secretary for Management. Effective April 24, 2003.

Department of Housing and Urban Development

Special Assistant to the Assistant Secretary for Community Planning and Development. Effective April 4, 2003.

Staff Assistant to the Assistant Secretary for Congressional and Intergovernmental Relations. Effective April 29, 2003.

Deputy Assistant Secretary for Intergovernmental Relations to the Assistant Secretary for Congressional and Intergovernmental Relations. Effective April 30, 2003.

Department of the Interior

Counselor to the Assistant Secretary for Indian Affairs. Effective April 29, 2003.

Hispanic Media Outreach to the Director for Communications. Effective April 30, 2003.

Department of Justice

Counsel to the Assistant Attorney General. Effective April 2, 2003.

Special Assistant to the Assistant Attorney General, Criminal Division. Effective April 2, 2003.

Special Assistant to the Director for Community Oriented Policing Services. Effective April 22, 2003.

Counsel to the Associate Attorney General. Effective April 22, 2003.

Staff Assistant to the Assistant Attorney General for the Tax Division. Effective April 30, 2003.

Department of Labor

Deputy Director to the Director for Faith-Based and Community Initiatives. Effective April 4, 2003.

Special Assistant to the Assistant Secretary for Administration and Management. Effective April 11, 2003.

Staff Assistant to the Director for Public Liaison. Effective April 11, 2003.

Special Assistant to the Assistant Secretary for Employment Standards. Effective April 15, 2003.

Staff Assistant to the Assistant Secretary for Policy. Effective April 22, 2003.

Department of State

Special Assistant to the Assistant Secretary for African Affairs. Effective April 14, 2003.

Foreign Affairs Officer to the Assistant Secretary for Intelligence and Research. Effective April 14, 2003.

Special Assistant to the Assistant Secretary for African Affairs. Effective April 24, 2003.

Department of Transportation

Senior Policy Advisor to the Administrator for the Maritime Administration. Effective April 2, 2003.

Assistant to the Secretary for Policy to the Secretary for Transportation. Effective April 9, 2003.

Special Assistant to the Administrator for Research and Special Programs Administration. Effective April 9, 2003.

Director for Public and Consumer Affairs to the Administrator for the Federal Motor Carrier Safety Administration. Effective April 9, 2003.

Department of the Treasury

Senior Advisor to the Under Secretary for Domestic Finance. Effective April 9, 2003.

Special Assistant to the Director for Strategic Planning, Scheduling and Advance. Effective April 14, 2003.

Special Assistant to the Assistant Secretary (Deputy Under Secretary) for International Affairs. Effective April 24, 2003.

Special Assistant to the Assistant Secretary for Legislative Affairs. Effective April 29, 2003.

Special Assistant to the Chief of Staff. Effective April 29, 2003.

Special Assistant to the Assistant Secretary for Legislative Affairs. Effective April 29, 2003.

Environmental Protection Agency

Special Assistant to the Associate Administrator for Congressional and Intergovernmental Relations. Effective April 29, 2003.

Senior Policy Advisor to the Deputy Assistant Administrator for Water. Effective April 30, 2003.

National Endowment for the Arts

Speechwriter to the Chairman for the National Endowment for the Arts. Effective April 25, 2003.

Director for Development to the Senior Deputy Chairman. Effective April 29, 2003.

Office of National Drug Control Policy

Legislative Analyst to the Associate Director for Legislative Affairs. Effective April 1, 2003.

Confidential Counsel to the Deputy Director for Demand Reduction. Effective April 30, 2003.

Office of Personnel Management

Deputy Chief of Staff to the Chief of Staff. Effective April 24, 2003.

Office of the United States Trade Representative

Deputy Assistant U.S. Trade Representative to the Assistant U.S. Trade Representative for Congressional Affairs. Effective April 1, 2003.

Small Business Administration

National Director for Native American Affairs to the Associate Deputy Administrator for Entrepreneurial Development. Effective April 9, 2003.

National Director—Matchmaking to the Associate Deputy Administrator for Government Contracts. Effective April 16, 2003.

Special Assistant to the Assistant Administrator for Congressional and Legislative Affairs. Effective April 18, 2003.

Social Security Administration

Confidential Assistant to the Chief of Staff. April 25, 2003.

Authority: 5 U.S.C. 3301 and 3302; E.O. 10577, 3 CFR 1954-1958 Comp., P.218.

Office of Personnel Management.
Kay Coles James,
Director.

[FR Doc. 03-16742 Filed 7-2-03; 8:45 am]

BILLING CODE 6325-38-P